OFFICE OF THE UNITED STATES TRADE REPRESENTATIVE

Trade Policy Staff Committee; Public Comments for Market Access Negotiations Under the WTO Agreement on Government Procurement

AGENCY: Office of the United States Trade Representative.

ACTION: Notice and request for comments.

SUMMARY: The Trade Policy Staff Committee (TPSC) is requesting written public comments with respect to the expansion of market access opportunities in government procurement under the World Trade Organization Agreement on Government Procurement. The specific information being sought is described in the background section below.

DATES: Public Comments are due by noon, November 1, 2004.

ADDRESSES: Offices of the U.S. Trade Representative, 600 17th Street, NW., Washington, DC 20508. Submissions by electronic mail: FR0446@ustr.gov. Submissions by facsimile: Gloria Blue, Executive Secretary, Trade Policy Staff Committee, at (202) 395-6143.

FOR FURTHER INFORMATION CONTACT: For procedural questions concerning public comments, contact Gloria Blue, Executive Secretary, TPSC, Office of the USTR, 1725 F. Street, NW, Washington, DC 20508, telephone (202) 395-3475. Questions concerning the expansion of market access opportunities in government procurement should be addressed to Jean Heilman Grier, Senior Procurement Negotiator, Office of the USTR, (202) 395-5097, or Scott Pietan, Department of Commerce, (202) 482-4337.

SUPPLEMENTARY INFORMATION: The Chairman of the TPSC invites written comments from the public on the expansion of market access opportunities in government procurement under the World Trade Organization (WTO) Agreement on Government Procurement (GPA). Comments should identify specific improvements that are needed in the current coverage of the Parties to the GPA. Such requests could include the addition of specific government entities, state-owned enterprises or other government-related entities, the addition of services covered by the Agreement, and the removal of existing discriminatory measures or exclusions.

The Appendices with the current market access commitments or coverage of each Party can be found on the WTO Web site at http://www.wto.org under the trade topic “government procurement,” with the details of Parties’ market access obligations at http://www.wto.org/english/tratop_e/gproc_e/loose_e.htm.

1. Background Information

The GPA is a plurilateral agreement that currently applies to 38 Members of the WTO. In addition to the United States, they are: Canada, European Communities (including its 25 member States: Austria, Belgium, Cyprus, Czech Republic, Denmark, Estonia, Finland, France, Germany, Greece, Hungary, Ireland, Italy, Latvia, Lithuania, Luxemburg, Malta, Netherlands, Poland, Portugal, Slovak Republic, Slovenia, Spain, Sweden, United Kingdom), Hong Kong China, Iceland, Israel, Japan, Korea, Liechtenstein, Netherlands with respect to Aruba, Norway, Singapore, and Switzerland. The GPA includes both procedures that all the Parties are required to follow when they undertake procurements covered by the GPA and market access obligations in the Appendices to the Agreement.

The Appendices include for each Party a positive list of the government entities that are required to comply with the Agreement when they undertake procurement above specified thresholds, subject to exclusions of certain goods. The government entities covered by the GPA include central government entities and government-related enterprises (such as state-owned enterprises), as well as, for most Parties, sub-central government entities. The Appendices also include a list of the services covered by the Party. In addition, the Parties set out exclusions and discriminatory measures in the Appendices.

The GPA calls for negotiations aimed at increasing market access opportunities under the Agreement through the greatest possible extension of coverage of government procurement by the Parties, on the basis of reciprocity, and the elimination of discriminatory measures and practices that distort open procurement. The GPA Parties have agreed to commence bilateral negotiations with the submission of initial requests to the other Parties for improvements in their coverage under the GPA by the end of November 2004. Based on the requests, the Parties will exchange offers in the spring of 2005.

The comments will be considered in developing U.S. positions in the negotiations, including requests for improvements in the market access provided by other Parties under the GPA.

2. Requirements for Submissions

In order to facilitate prompt processing of submissions, USTR strongly urges and prefers electronic (e-mail) submissions in response to this notice.

Persons making submissions by e-mail should use the following subject line: “Expansion of Market Access under the WTO/GPA” followed by “Written Comments.” Documents should be submitted as WordPerfect, MSWord, or text (.txt) files. Supporting documentation submitted as spreadsheets are acceptable in Quattro Pro or Excel.

For any document containing business confidential information submitted electronically, the file name of the business confidential version should begin with the characters “BC-”, and the file name of the public version should begin with the characters “P-”. The “P-” or “BC-” should be followed by the name of the submitter. Persons who make submissions by e-mail should not provide separate cover letters; information that might appear in a cover letter should be included in the submission itself. To the extent possible, any attachments to the submission should be included in the same file as the submission itself, and not as separate files.

Written comments submitted in response to this request will be placed in a file open to public inspection pursuant to 15 CFR 2003.5, except business confidential information exempt from public inspection in accordance with 15 CFR 2003.6. Business confidential information submitted in accordance with 15 CFR 2003.6 must be clearly market “Business Confidential” at the top of each page, including any cover letter or cover page, and must be accompanied by a nonconfidential summary of the confidential information. All public documents and nonconfidential summaries shall be available for public inspection in the USTR Reading Room. The USTR Reading Room is open to the public, by appointment only, from 10 a.m. to 12 noon and 1 p.m. to 4 p.m., Monday through Friday. An appointment to review the file must be scheduled at least 48 hours in advance and may be made by calling (202) 395-6186.

General information concerning the Office of the United States Trade Representative may be obtained by accessing its Internet Web site (http://www.ustr.gov).

Carmen Suro-Bredie,
Chairman, Trade Policy Staff Committee.

[FR Doc. 04-22574 Filed 10-6-04; 8:45 am]

BILLING CODE 3190-W4-P